DEPARTMENT OF THE INTERIOR

Office of the Special Trustee for American Indians

Tribal Consultation on Participation by the Office of the Special Trustee for American Indians in the Department of the Interior Consolidation of Agency Appraisal Functions

AGENCY: Office of the Special Trustee for American Indians.

ACTION: Notice of tribal consultation meeting.

SUMMARY: Notice is hereby given that the Office of the Special Trustee for American Indians (OST) will conduct consultation meetings to obtain oral and written comments concerning potential issues related to participation by OST in the Department of the Interior plan to consolidate agency appraisal functions.

On June 19, 2003, Secretary of the Interior Gale Norton announced that real estate appraisal functions currently performed by various agencies within the Department would be consolidated by September 30, 2003, in a single office. This action is taken in response to concerns about the objectivity and management of appraisal functions carried out by several agencies within the Department, and documented in reports issued by the Department's Inspector General, the General Accounting Office and other groups.

The goals of a consolidated appraisal organization include: to restore public and consumer confidence in land valuations; to ensure greater appraiser independence for unbiased valuation services that meet the highest professional standards; and a sharing of skills and resources throughout the Department. In addition, the consolidation is expected to provide better coordination and consistency of appraisal guidance, enhanced professional development of appraisers, and greater efficiencies in contract monitoring and development.

Since July 2003, OST has participated in the Departmental action team composed of appraisal and realty specialists from affected offices within the Department. The action team has been meeting to determine the best way to accomplish the consolidation, with as minimal disruption to appraisal services as possible. Participation on this action team, and additional discussions with the Department, indicate that it would be in the best interest of the OST appraisal program to join this consolidation. Specific issues unique to the appraisal of Indian trust assets as conducted by the OST Office of Appraisal Services, and by self-governance and self-determination tribes, however, require special consideration. OST is planning tribal consultation meetings to discuss these issues.

DATES: All comments are due by November 7, 2003. The meeting dates are September 24, 2003 and October 28, 2003 at the times and locations listed below.

ADDRESSES: Send or hand-deliver written comments to: Carrie Moore, Office of the Special Trustee for American Indians, 1849 C Street, NW., Suite 5140, Washington, DC 20240. Submissions by facsimile should be sent to (202) 208-7545.

FOR FURTHER INFORMATION CONTACT: Carrie Moore at (202) 208-4866 or Pat Gerard at (505) 816-1313.

SUPPLEMENTARY INFORMATION: The purpose of the consultation is to provide Indian tribes and other interested parties with the opportunity to comment on issues relevant to OST participation in the the Department of the Interior consolidation of bureau and agency appraisal programs.

Two, three-hour blocks of time will be allotted at each meeting for Indian tribes and interested parties to comment on this issue. On September 24, 2003, the meetings will be held from 9 a.m.-12 p.m., and from 1:30 p.m.-4:30 p.m., in Tulsa, Oklahoma.

Hotel information: Hilton Garden Inn—Tulsa Airport, 7728 East Virgin Court, Tulsa, Oklahoma 74115, telephone (918) 838-1444.

Two additional meetings will occur on October 28, 2003 from 9 a.m.-12 p.m., and from 1:30 p.m.-4:30 p.m., in Las Vegas, Nevada.

Hotel information: MGM Hotel, 3799 Las Vegas Blvd, Las Vegas, Nevada 89109, telephone (702) 891-1111.

Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Special Trustee for American Indians by 209 DM 11.

Dated: September 8, 2003.
Victor Christiansen,
Acting Director, Budget, Finance and Administration, Office of the Special Trustee for American Indians.

[FR Doc. 03-23627 Filed 9-16-03; 8:45 am]

BILLING CODE 4310-02-P